DEPARTMENT OF ENERGY

Federal Energy Regulatory Commission

[Docket No. IC23-14-000]

Commission Information Collection Activity (FERC-717); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the revision of the currently approved information collection, FERC-717 (Standards for Business Practices and Communication Protocols for Public Utilities).

DATES: Comments on the collections of information are due December 12, 2023.

ADDRESSES: You may submit your comments (identified by Docket No. IC23-14-000) on FERC-717 by one of the following methods:

Electronic filing through https://www.ferc.gov is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

Instructions: All submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Ellen Brown may be reached by email at DataClearance@FERC.gov, or by telephone at (202) 502-8663.

Title: FERC-717, Standards for Business Practices and Communication Protocols for Public Utilities.

OMB Control No.: 1902-0173.

Type of Request: Three-year approval of the FERC-717 information collection requirements with deletion of one-time burdens previously approved by the Office of Management and Budget.

Abstract: Section 205 of the Federal Power Act (FPA) (16 U.S.C. 824d) requires that all rates and charges for the transmission or sale of electric energy and all rules and regulations affecting or pertaining to such rates and charges be just and reasonable. Section 206 of the FPA (16 U.S.C. 824e) authorizes FERC to initiate a proceeding to address any “rate, charge or classification” related to the transmission or sale of electricity that the agency determines is “unjust, unreasonable, unduly discriminatory or preferential.”

Commission regulations at 18 CFR 35.28 and 18 CFR part 37 are in accordance with FPA Sections 205 and 206. The regulation at 18 CFR 35.28 applies to any public utility that owns, operates, or controls interstate transmission facilities and any non-public utility seeking voluntary compliance with jurisdictional transmission tariff reciprocity conditions. These entities must offer transmission service on an open and non-discriminatory basis pursuant to a pro forma Open Access Transmission Tariff (OATT). Part 37 applies to any public utility that owns, operates, or controls facilities used for the transmission of electric energy in interstate commerce and to transactions performed under the pro forma OATT established under 18 CFR 35.28. As stated at 18 CFR 37.2, the purpose of 18 CFR part 37 is to ensure that potential customers of open access transmission service receive access to information that will enable them to obtain transmission service on a non-discriminatory basis from any Transmission Provider.¹ The regulations in 18 CFR part 37 provide standards of conduct and require the Transmission Provider (or its agent) to create and operate an Open Access Same-Time Information System (OASIS) that gives all users of the open access transmission system access to the same information.

¹ As defined at 18 CFR 37.3(a), a “Transmission Provider” is any public utility that owns, operates, or controls facilities used for the transmission of electricity in interstate commerce.

The collection of information in accordance with FERC-717 is necessary for the implementation of OASIS. The regulation at 18 CFR 37.6 lists the information that Transportation Providers or Responsible Parties ² must calculate and post on OASIS. Paragraph (a) of section 37.6 provides that the information posted on OASIS must be in such detail and the OASIS must have such capabilities as to allow Transmission Customers ³ to:

² As defined at 18 CFR 37.3(c), a “Responsible Party” is the Transmission Provider or an agent to whom the Transmission Provider has delegated the responsibility of meeting any of the requirements of 18 CFR part 37.

³ As defined at 18 CFR 37.3(b), a “Transmission Customer” is any eligible customer (or its designated agent) that can or does execute a transmission service agreement or can or does receive transmission service.

(1) Make requests for transmission services offered by Transmission Providers, Resellers ⁴ and other providers of ancillary services, request the designation of a network resource, and request the termination of the designation of a network resource;

⁴ As defined at 18 CFR 37.3(d), a “Reseller” is any Transmission Customer who offers to sell transmission capacity it has purchased.

(2) View and download in standard formats, using standard protocols,⁵ information regarding the transmission system necessary to enable prudent business decision making;

⁵ The standard protocols are included in the Standards for Business Practices and Communication Protocols for Public Utilities adopted by the Wholesale Electric Quadrant (WEQ) of the North American Energy Standards Board (NAESB). The Commission adopted the protocols by reference in 18 CFR 38.1(b)(2)(iv) in a final rule at 86 FR 29491 (June 2, 2021). The protocols remain effective at present.

(3) Post, view, upload and download information regarding available products and desired services;

(4) Clearly identify the degree to which transmission service requests or schedules were denied or interrupted;

(5) Obtain access, in electronic format, to information to support available transmission capability calculations and historical transmission service requests and schedules for various audit purposes; and

(6) Make file transfers and automated computer-to-computer file transfers and queries as defined by the Standards and Communications Protocols Document.

Calculation Methods, Availability of Information, and Requests

The regulation at 18 CFR 37.6(b)(2) provides that information used to calculate any posting of ATC and TTC ⁶ must be dated and time-stamped and all calculations shall be performed according to consistently applied methodologies referenced in the Transmission Provider's transmission tariff and shall be based on Commission-approved Reliability Standards, business practice and electronic communication standards, and related implementation documents, as well as current industry practices, standards and criteria. Such calculations shall be conducted in a manner that is transparent, consistent with anticipated system conditions and outages for the relevant timeframe, and not unduly discriminatory or preferential.

⁶ As defined at 18 CFR 37.6(b)(1): (1) ATC is the transfer capability remaining in the physical transmission network for further commercial activity over and above already committed uses, or such definition as contained in Commission-approved Reliability Standards. (2) TTC is the amount of electric power that can be moved or transferred reliably from one area to another area of the interconnected transmission systems by way of all transmission lines (or paths) between those areas under specified system conditions, or such definition as contained in Commission-approved Reliability Standards.

On request, the Responsible Party must make all data used to calculate ATC, TTC, Capacity Benefit Margin,⁷ and Transmission Reliability Margin ⁸ for any constrained posted paths publicly available in electronic form within one week of the posting. The information is required to be provided only in the electronic format in which it was created, along with any necessary decoding instructions, at a cost limited to the cost of reproducing the material. This information is to be retained for six months after the applicable posting period.

⁷ As defined at 18 CFR 37.6(b)(1)(vii), “Capacity Benefit Margin” means the amount of TTC preserved by the Transmission Provider for load-serving entities, whose loads are located on that Transmission Provider's system, to enable access by the load-serving entities to generation from interconnected systems to meet generation reliability requirements, or such definition as contained in Commission-approved Reliability Standards.

⁸ As defined at 18 CFR 37.6(b)(1)(viii), “Transmission Reliability Margin” is the amount of TTC necessary to provide reasonable assurance that the interconnected transmission network will be secure, or such definition as contained in Commission-approved Reliability Standards.

System planning studies, facilities studies, and specific network impact studies performed for customers or the Transmission Provider's own network resources are to be made publicly available in electronic form on request and a list of such studies must be posted on the OASIS. A study is required to be provided only in the electronic format in which it was created, along with any necessary decoding instructions, at a cost limited to the cost of reproducing the material. These studies are to be retained for five years.

Posting Requirements

Paragraph (b)(3) of 18 CFR 37.6 requires Transmission Providers to calculate and post the ATC, TTC, CBM, and TRM in megawatts for each Posted Path.⁹ Paragraph (c) of 18 CFR 37.6 requires Transmission Providers to post prices and a summary of the terms and conditions associated with all transmission products offered to Transmission Customers. Paragraph (d) of 18 CFR 37.6 requires Transmission Providers to post any ancillary service required to be provided or offered under the pro forma OATT.

⁹ As defined at 18 CFR 37.6(b)(1)(i), “Posted Path” means any control area to control area interconnection; any path for which service is denied, curtailed, or interrupted for more than 24 hours in the past 12 months; and any path for which a customer requests to have ATC or TTC posted. For this last category, the posting must continue for 180 days and thereafter until 180 days have elapsed from the most recent request for service over the requested path. For purposes of this definition, an hour includes any part of an hour during which service was denied, curtailed, or interrupted.

Standards of Conduct

The Commission established Standards of Conduct at 18 CFR 37.4 requiring that personnel engaged in transmission system operations function independently from personnel engaged in marketing functions. The Standards of Conduct were designed to prevent employees of a public utility (or any of its affiliates) engaged in marketing functions from preferential access to OASIS-related information or from engaging in unduly discriminatory business practices. Companies were required to separate their transmission operations/reliability functions from their marketing/merchant functions and prevent system operators from providing merchant employees and employees of affiliates with transmission-related information not available to all customers at the same time through public posting on the OASIS.

Type of Respondents: Transmission Providers.

Estimate of Annual Burden: ¹⁰ The previous information collection request (ICR Reference No. 202002-1902-006) in the year 2020 was approved by OMB with a one-time burden that was expected to be completed in Year One. As averaged over a three-year period, the annual responses were estimated as 165 annually, 10 hours per response, and total hours of 1,650 hours. These burdens are not included in this information collection request because all respondents have complied with that one-time burden. The removal of those burdens constitutes a program change.

¹⁰ Burden is defined as the total time, effort, or financial resources expended by persons to generate, maintain, retain, or disclose or provide information to or for a Federal agency. For further explanation of what is included in the information collection burden, refer to 5 CFR 1320.3.

The estimated annual number of responses for the ongoing information collection activity are adjusted in this information collection request from 162 to 216, an increase of 54 responses. Based on a review of the information collection since our last submission, we have determined this change in number of responses is due to changes in the regulated industry.

The current burden estimates are shown in the following table.

Burden Estimates for FERC-717, Standards for Business Practices and Communication Protocols for Public Utilities
Information collection requirement | Number of respondents | Annual number of responses per respondent | Total number of responses | Average burden hours & cost per response ¹¹ | Total annual burden hours & total annual cost
| (1) | (2) | (1) * (2) = (3) | (4) | (3) * (4) = (5)
Open Access Same-Time Information (OASIS) | 216 | 1 | 216 | 30 hrs.; $2,880 | 6,480 hrs.; $622,080.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

¹¹ The Commission staff thinks that the average respondent for this collection is similarly situated to the Commission, in terms of salary plus benefits. Based upon FERC's FY 2022 annual average of $199,867 (for salary plus benefits), and the average hourly cost is $96/hour.

Dated: October 5, 2023.
Debbie-Anne A. Reese,
Deputy Secretary.

[FR Doc. 2023-22551 Filed 10-12-23; 8:45 am]

BILLING CODE 6717-01-P